OFFICE OF PERSONNEL MANAGEMENT

5 CFR Part 841

RIN 3206-AI83

Retirement and Insurance—Automation and Simplification of FERS Employee Record Keeping During an Intra-Agency Transfer

AGENCY: Office of Personnel Management.

ACTION: Interim rule.

SUMMARY: The Office of Personnel Management (OPM) is issuing interim regulations to allow the automated transfer of Federal Employees' Retirement System (FERS) employee payroll account information from one payroll office to another, within the same agency, eliminating the requirement of creating and forwarding a hard copy Individual Retirement Record (IRR) to OPM for each intra-agency transfer. When an employee is no longer employed by the agency or is no longer covered under FERS, a comprehensive IRR will then be forwarded to OPM.

DATES: Interim rules effective April 20, 2000; comments must be received on or before July 19, 2000.

ADDRESSES: Send comments to Mary Ellen Wilson, Retirement Policy Division, Office of Personnel Management, P.O. Box 57, Washington, DC 20044; or deliver to OPM, Room 4351, 1900 E Street, NW., Washington DC. Comments may also be submitted by electronic mail to combox@opm.gov.

FOR FURTHER INFORMATION CONTACT: For Part 841: John Panagakos, (202) 606-0299.

SUPPLEMENTARY INFORMATION: 5 CFR 841.504(d) directs an agency payroll office to close a FERS employee's IRR and forward it to OPM when the employee separates, transfers to another agency or to a position serviced by another payroll office, or transfers to a position in which he or she is not covered by FERS. This means that even when an employee transfers within an agency, but is subject to a different payroll office, a hard copy IRR must be created from the payroll information and forwarded to OPM. There are compelling reasons to retain the requirement to create a hard copy IRR each time an employee (1) moves from one agency to another; (2) separates from Federal service; or (3) changes retirement coverage. However, recent automated advances obviate the need to immediately create and forward an IRR to OPM for every intra-agency transfer that only involves different payroll offices under the same system of automated records.

As a result of modernization efforts in automated record keeping software, early in the year 2000 the Defense Finance and Accounting Service (DFAS) plans to implement the automated transfer of large numbers of payroll accounts from one payroll office to another within their agency. This software also has the capability to electronically transfer retirement information as well as payroll information, thus securing an accurate record of retirement information for hard copy certification and transmittal to OPM when the employee falls into one of the three retained categories listed above (e.g., separates from Federal service).

For these reasons, the Office of Personnel Management is proposing to amend 5 CFR 841.504(d) to allow agencies this flexibility in intra-agency record keeping. OPM's authority to make this amendment is in section 8461(g) of title 5, United States Code.

Waiver of General Notice of Proposed Rulemaking

Under section 553(b)(3)(B) and (d)(3) of title 5, United States Code, I find that good cause exists for waiving the general notice of proposed rulemaking and for making these rules effective in less than 30 days. These regulations will affect the operation of all Federal payroll offices on and after May 1, 2000. Publication of a general notice of proposed rulemaking would be contrary to the public interest because it would delay the implementation of cost saving automated record keeping measures that are non-controversial in nature.

Regulatory Flexibility Act

I certify that this amendment to the regulation will not have a significant economic impact on a substantial number of small entities because the amendment provides a cost-saving option previously unavailable to those agencies but does not require that they obtain the necessary software to implement that option.

Executive Order 12866, Regulatory Review

This rule has been reviewed by the Office of Management and Budget in accordance with Executive Order 12866.

List of Subjects in 5 CFR Part 841

Administrative practice and procedure, Air traffic controllers, Claims, Disability benefits, Firefighters, Government employees, Income taxes, Intergovernmental relations, Law enforcement officers, Pensions.

Office of Personnel Management
Janice R. Lachance,
Director.

Accordingly, OPM amends part 841 of title 5 of the Code of Federal Regulations as follows:

PART 841—FEDERAL EMPLOYEES RETIREMENT SYSTEM—GENERAL ADMINISTRATION

1. The authority citation for part 841 is revised to read as follows:

Authority: 5 U.S.C. 8461; § 841.108 also issued under 5 U.S.C. 552a; subpart D also issued under 5 U.S.C. 8423; § 841.504 also issued under 5 U.S.C. 8422; § 841.507 also issued under section 505 of Pub. L. 99-335, 100 Stat. 514; subpart J also issued under 5 U.S.C. 8469; § 841.506 also issued under 5 U.S.C. 7701(b)(2); § 841.508 also issued under section 505 of Pub. L. 99-335, 100 Stat. 514.

Subpart E—Employee Deductions and Government Contributions

2. In § 841.504 paragraph (d) is revised to read as follows:

§ 841.504 Agency responsibilities.

* * * * *

(d) When an employee separates from Federal service or transfers to another agency, or transfers to a position in which he or she is not covered by FERS, the agency must close the employee's Individual Retirement Record (IRR) and forward it to OPM within the time standards prescribed by OPM. However, if an employee transfers to another position covered under FERS—

(1) Within the same agency, and

(2) To a position serviced by another payroll office, the agency may, in lieu of forwarding an IRR to OPM at the time of the intra-agency transfer, record the transfer for future IRR certification in an internal automated system of records.

* * * * *

[FR Doc. 00-9853 Filed 4-19-00; 8:45 am]

BILLING CODE 6325-01-P